DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its Financial Assistance Information Collection, OMB Control Number 1910-0400. This information collection request covers information necessary to administer and manage DOE's financial assistance programs.

DATES: Comments regarding this collection must be received on or before July 31, 2023. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Richard Bonnell by email at richard.bonnell@hq.doe.gov or by telephone (202) 287-1747. Please put “2023 DOE Agency Information Collection Renewal-Financial Assistance” in the subject line when sending an email.

SUPPLEMENTARY INFORMATION: This information collection request contains:

(1) OMB No.: 1910-0400 (Renewal);

(2) Information Collection Request Title: DOE Financial Assistance Information Clearance;

(3) Type of Request: Renewal;

(4) Purpose: This information collection package covers mandatory information collections necessary to annually plan, solicit, negotiate, award, administer, and closeout grants and cooperative agreements under the Department's financial assistance programs. The information is used by Departmental management to exercise management oversight with respect to implementation of applicable statutory and regulatory requirements and obligations. The collection of this information is critical to ensure that the Government has sufficient information to judge the degree to which awardees meet the terms of their agreements; that public funds are spent in the manner intended; and that fraud, waste, and abuse are immediately detected and eliminated;

(5) Annual Estimated Number of Respondents: 22,900;

(6) Annual Estimated Number of Total Responses: 265,550;

(7) Estimated Number of Burden Hours: 1,464,800; and

(8) Annual Estimated Reporting and Recordkeeping Cost Burden: $81,384,288.

Statutory Authority: Federal Grant and Cooperative Agreement Act, 31 U.S.C. 6301-6308.

Signing Authority

This document of the Department of Energy was signed on June 22, 2023, by John R. Bashista, Director, Office of Acquisition Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 27, 2023.
Treena V. Garrett,
Federal Register Liaison Officer, U.S. Department of Energy.

[FR Doc. 2023-13931 Filed 6-29-23; 8:45 am]

BILLING CODE 6450-01-P